DEPARTMENT OF LABOR

Mine Safety and Health Administration

Petition for Modification

AGENCY: Mine Safety and Health Administration, Labor.

ACTION: Notice of petition for modification of an existing mandatory safety standard.

SUMMARY: Section 101(c) of the Federal Mine Safety and Health Act of 1977 and 30 CFR Part 44 govern the application, processing, and disposition of petitions for modification. This notice is a summary of a petition for modification filed by the party listed below to modify the application of an existing mandatory safety standard published in Title 30 of the Code of Federal Regulations.

DATES: All comments on the petition must be received by the Office of Standards, Regulations, and Variances on or before November 3, 2008.

ADDRESSES: You may submit your comments, identified by “docket number” on the subject line, by any of the following methods:

1. Electronic Mail: Standards-Petitions@dol.gov.

2. Facsimile: 1-202-693-9441.

3. Regular Mail: MSHA, Office of Standards, Regulations, and Variances, 1100 Wilson Boulevard, Room 2350, Arlington, Virginia 22209, Attention: Patricia W. Silvey, Director, Office of Standards, Regulations, and Variances.

4. Hand-Delivery or Courier: MSHA, Office of Standards, Regulations, and Variances, 1100 Wilson Boulevard, Room 2350, Arlington, Virginia 22209, Attention: Patricia W. Silvey, Director, Office of Standards, Regulations, and Variances.

MSHA will consider only comments postmarked by the U.S. Postal Service or proof of delivery from another delivery service such as UPS or Federal Express on or before the deadline for comments. Individuals who submit comments by hand-delivery are required to check in at the receptionist desk on the 21st floor.

Individuals may inspect copy of the petition and comments during normal business hours at the address listed above.

FOR FURTHER INFORMATION CONTACT: Barbara Barron, Office of Standards, Regulations, and Variances at 202-693-9447 (Voice), barron.barbara@dol.gov (E-mail), or 202-693-9441 (Telefax). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modifications.

II. Petitions for Modification

Docket Number: M-2008-044-C.

Petitioner: Summit Engineering, Inc., P.O. Box 130, 3016 Rt. 10, Chapmanville, West Virginia 25508 on behalf of INR-WV Operating, LLC.

Mine: Saunders Prep. Plant, MSHA I.D. No. 46-02140, located in Logan County, West Virginia.

Regulation Affected: 30 CFR 77.214(a) (Refuge piles; general).

Modification Request: The petitioner requests a modification of the existing standard which prohibits refuse piles to be located over abandoned openings to permit abandoned mine openings to be backfilled with inert non-acid producing soil. The petitioner states that: (1) The soil will extend approximately 25 feet into the mine and at least 4 feet in all directions beyond the limits of the mine opening; (2) the existing mine openings are within the foot print of INR's North Rock Refuse Area; (3) the mine openings are from the Buffalo Mining Company's No. 5 Mine; (4) production at the mine ceased in 1972 and has been abandoned since then; and (5) mine openings within the foot print are up-dip from additional openings outside of the foot print of the refuse area, and are dry. The petitioner further states that: (1) There is significant flow coming out of mine openings down-dip from the refuse area; (2) the entries down-dip of the refuse areas will be left open to allow drainage to continue and not impound water; (3) any exposed coal seam along the mine bench will be covered with soil to at least 4 feet above the seam; (4) a riprap rock underdrain connected to the underdrain of the refuse fill will be installed along the mine openings consisting of durable sandstone wrapped in filter fabric; (5) one 12-inch SDR-11 high density polyethylene pipe will placed at the mine opening with the lowest elevation; (6) the combination of the underdrain and pipe will serve to handle localized drainage; and (7) breaker rock coal refuse will be placed in the fill in accordance with the approved West Virginia Department of Environmental Protection Surface Mining Control and Reclamation Act permit. The petitioner asserts that since the existing mine is abandoned, this plan will provide the same measure of protection for the miners as the existing standard.

Patricia W. Silvey,
Director, Office of Standards, Regulations, and Variances.

[FR Doc. E8-23186 Filed 10-1-08; 8:45 am]

BILLING CODE 4510-43-P